DEPARTMENT OF JUSTICE

[OMB Number 1121-0356]

Agency Information Collection Activities; Proposed eCollection eComments Requested; Reinstatement to a Previously Approved Collection: State and Local Justice Agencies Serving Tribal Lands (SLJASTL): Census of State and Local Law Enforcement Agencies Serving Tribal Lands (CSLLEASTL)

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until February 21, 2017.

FOR FURTHER INFORMATION CONTACT: If you have additional comments especially on the estimated public burden or associated response time, suggestions, or need a copy of the proposed information collection instrument with instructions or additional information, please contact Suzanne Strong, Statistician, Prosecution and Judicial Statistics, Bureau of Justice Statistics, 810 Seventh Street NW., Washington, DC 20531 (email: Suzanne.M.Strong@usdoj.gov; telephone: 202-616-3666).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: New collection.

(2) The Title of the Form/Collection: State and Local Justice Agencies Serving PL-280 Tribal Lands (SLJASTL): Survey of State and Local Law Enforcement Agencies Serving PL-280 Tribal Lands (SSLLEASTL).

(3) The agency form number, if any, and the applicable component of the Department sponsoring the collection: No agency form number at this time. The applicable component within the Department of Justice is the Bureau of Justice Statistics, in the Office of Justice Programs.

(4) Affected public who will be asked or required to respond, as well as a brief abstract: Respondents will be general purpose state and local law enforcement agencies (LEAs) that are responsible for policing tribal lands in the sixteen Public Law 280 (PL-280) states, including state police departments, sheriff's offices, and general purpose local law enforcement agencies. Abstract: Among other responsibilities, the Bureau of Justice Statistics (BJS) is charged with collecting data regarding crimes occurring on tribal lands. The SLJASTL is the first effort by BJS to include state and local justice agencies responsible for policing and prosecuting crimes that occur on tribal lands in PL-280 states. Specifically, the SSLLEASTL will collect information that will help fill the gaps we have in our understanding of the nature of crime on tribal lands. There are two survey instruments: One for Alaska and one for the remaining fifteen PL-280 states. The data collection instruments are designed to capture administrative, operational and caseload data from respondents. Information requested includes the staffing and budgets of the state and local law enforcement agencies, the types of agreements state and local law enforcement agencies have with tribal governments, types of patrol services, traffic services, and detention services provided to tribal lands, information sharing between state and local law enforcement and tribal governments, training provided by state and local law enforcement to tribal law enforcement (including cross-deputization agreements), training received by state and local law enforcement agencies on tribal jurisdiction, tribal law and tribal culture, and the number and types of incidents policed by state and local law enforcement agencies. This survey is the first of its kind to describe the role that state and local law enforcement play in policing crime on tribal lands in PL-280 states.

(5) An estimate of the total number of respondents and the amount of time estimated for an average respondent to respond: An agency-level survey will be sent to approximately 1,600 agencies. The expected burden placed on these respondents is about 70 minutes per respondent, including follow-up time.

(6) An estimate of the total public burden (in hours) associated with the collection: The total respondent burden is approximately 1,773 burden hours.

If additional information is required contact: Jerri Murray, Department Clearance Officer, United States Department of Justice, Justice Management Division, Policy and Planning Staff, Two Constitution Square, 145 N Street NE., 3E.405B, Washington, DC 20530.

Dated: December 19, 2016.
Jerri Murray,
Department Clearance Officer for PRA, U.S. Department of Justice.

[FR Doc. 2016-30931 Filed 12-22-16; 8:45 am]

BILLING CODE 4410-18-P